DEPARTMENT OF HEALTH AND HUMAN SERVICES

Food and Drug Administration

[FDA 225-05-3001]

Memorandum of Understanding Between the United States Food and Drug Administration and the United States General Services Administration

AGENCY: Food and Drug Administration, HHS.

ACTION: Notice.

SUMMARY: The Food and Drug Administration (FDA) is providing notice of a memorandum of understanding (MOU) between the U.S. Food and Drug Administration and the U.S. General Services Administration (GSA) (collectively the Parties or individually a Party). The purpose of this MOU is to set forth an agreement between GSA and FDA regarding the roles, responsibilities, and financial commitments of each Party relating to FDA's agreement to coordinate, with GSA and its contractors, removal of a mercury-contaminated laboratory waste plumbing system; and GSA's agreement to coordinate, with FDA and its contractors, its scheduled hazmat removal and demolition work at Federal Office Building 8. It is the Parties' mutual desire to accomplish both actions in such a manner that controls and reduces the overall cost to the taxpayer.

DATES: The agreement became effective January 9, 2006.

FOR FURTHER INFORMATION CONTACT:

For FDA: Kathleen Heuer, Office of the Commissioner (HF-20), Food and Drug Administration, 5600 Fishers Lane, rm. 14-57, Rockville, MD 20857, 301-255-6762.

For GSA: William Guerin, U.S. General Services Administration, 301 Seventh St. SW., rm. 70-80, Washington, DC 20407, 202-708-5891.

SUPPLEMENTARY INFORMATION: In accordance with 21 CFR 20.108(c), which states that all written agreements and MOUs between FDA and others shall be published in the Federal Register, the agency is publishing notice of this MOU.

Dated: February 15, 2006.
Jeffrey Shuren,
Assistant Commissioner for Policy.

[FR Doc. 06-1746 Filed 2-23-06; 8:45 am]

BILLING CODE 4160-01-S